DEPARTMENT OF ENERGY

Federal Energy Regulatory Commission

Combined Notice of Filings #3

Take notice that the Commission received the following electric rate filings:

Docket Numbers: ER24-1384-003.

Applicants: Tampa Electric Company.

Description: Compliance filing: Second Amendment—Compliance Filing.

Filed Date: 5/8/25.

Accession Number: 20250508-5078.

Comment Date: 5 p.m. ET 5/29/25.

Docket Numbers: ER25-1300-000.

Applicants: Puget Sound Energy, Inc.

Description: Refund Report of Puget Sound Energy, Inc.

Filed Date: 5/7/25.

Accession Number: 20250507-5173.

Comment Date: 5 p.m. ET 5/28/25.

Docket Numbers: ER25-2180-000.

Applicants: Entergy Arkansas, LLC.

Description: 205(d) Rate Filing: Crossover Wind LLC LBA Agreement to be effective 5/9/2025.

Filed Date: 5/8/25.

Accession Number: 20250508-5056.

Comment Date: 5 p.m. ET 5/29/25.

Docket Numbers: ER25-2181-000.

Applicants: PJM Interconnection, L.L.C.

Description: 205(d) Rate Filing: Original GIA SA No. 7653; AD2-074/AF1-042/AG1-038; Cancellation of ISA No. 6396 to be effective 4/8/2025.

Filed Date: 5/8/25.

Accession Number: 20250508-5072.

Comment Date: 5 p.m. ET 5/29/25.

Docket Numbers: ER25-2182-000.

Applicants: Energy Prepay VIII, LLC.

Description: Initial Rate Filing: Baseline new to be effective 5/9/2025.

Filed Date: 5/8/25.

Accession Number: 20250508-5102.

Comment Date: 5 p.m. ET 5/29/25.

Docket Numbers: ER25-2183-000.

Applicants: 59TC 8me LLC.

Description: 205(d) Rate Filing: 59TC 8me LLC A and R Master Interconnection Services Agreement to be effective 5/9/2025.

Filed Date: 5/8/25.

Accession Number: 20250508-5105.

Comment Date: 5 p.m. ET 5/29/25.

Docket Numbers: ER25-2184-000.

Applicants: Energy Prepay IX, LLC.

Description: Initial Rate Filing: Baseline new to be effective 5/9/2025.

Filed Date: 5/8/25.

Accession Number: 20250508-5106.

Comment Date: 5 p.m. ET 5/29/25.

Docket Numbers: ER25-2185-000.

Applicants: National Grid Generation LLC.

Description: 205(d) Rate Filing: 2025-05-08 NG Generation Application for Market-Based Rate Authority & Waivers to be effective 7/8/2025.

Filed Date: 5/8/25.

Accession Number: 20250508-5108.

Comment Date: 5 p.m. ET 5/29/25.

Take notice that the Commission received the following public utility holding company filings:

Docket Numbers: PH25-8-000.

Applicants: REMC Assets, LP.

Description: REMC Assets, LP submits FERC 65-B Notice of Change in Fact to Waiver Notification.

Filed Date: 5/7/25.

Accession Number: 20250507-5169.

Comment Date: 5 p.m. ET 5/28/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes.

For public inquiries and assistance with making filings such as interventions, comments, or requests for rehearing, the public is encouraged to contact OPP at (202) 502-6595 or OPP@ferc.gov.

Dated: May 8, 2025.
Carlos D. Clay,
Deputy Secretary.

[FR Doc. 2025-08528 Filed 5-14-25; 8:45 am]

BILLING CODE 6717-01-P